DEPARTMENT OF AGRICULTURE

Forest Service

Idaho Panhandle National Forests, Coeur d'Alene River Ranger District, Shoshone County, ID; Beaver Creek Project

AGENCY: Forest Service, USDA.

ACTION: Notice of intent to prepare an environmental impact statement.

SUMMARY: The Forest Service will prepare an Environmental Impact Statement (EIS) on a proposal to accomplish vegetation management in the Beaver Creek Resource Area, which is located on National Forest System lands administered by the Idaho Panhandle National Forests in Shoshone County, Idaho.

The proposed action would include timber harvest (commercial thin, shelterwood, improvement cut, and seed tree treatments); hazardous fuels treatment (underburning, jackpot burning, mastication, grapple piling and yarding tops associated with the timber harvest); prescribed burning not associated with timber harvest; and watershed restoration (decommissioning roads currently not open to motorized use, upgrading aquatic organism passage barriers; and road construction (both permanent and temporary). Other activities included in the proposed action are road storage, road reconstruction and maintenance, site preparation, reforestation, and fuel break development.

This project is designed to achieve the goals of enhanced forest stand resilience and resistance, hazardous fuel reduction, and restoration of water quality and aquatic habitats.

DATES: Comments concerning the scope of the analysis must be received by February 21, 2013. Additional opportunity for formal comments will be accepted after release of the Draft Environmental Impact Statement (DEIS), which is expected to be published in April 2013. The Final Environmental Impact Statement (FEIS) is expected to be published in August 2013.

ADDRESSES: Send or hand-deliver written comments to the Coeur d'Alene River Ranger District, Attn: Project Leader Lauren Goschke, 2502 E Sherman Avenue, Coeur d'Alene, ID 83814. Comments may also be sent via email to comments-northern-idpanhandle-coeur-dalene@fs.fed.us, or via facsimile to 208-769-3062.

FOR FURTHER INFORMATION CONTACT: Lauren Goschke, Project Leader, Coeur d'Alene River Ranger District, 2502 E. Sherman Avenue, Coeur d'Alene ID, 83814; telephone (208) 769-3046, email lgoschke@fs.fed.us, or Jeanne White, Ecosystems Staff Officer, telephone (208) 769-3022, email jlwhite@fs.fed.us, also at the Coeur d'Alene River Ranger District. Additional information is available on the Idaho Panhandle National Forests internet web page: http://www.fs.usda.gov/projects/ipnf/landmanagement/projects.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Beaver Creek proposed action is to move the project area towards the desired conditions identified by the Forest Plan. There is a need to maintain existing and recruit additional long-lived early seral species to facilitate greater forest health and increased resiliency to disturbance. There is a need to manage the landscape arrangement of forest structure and age class within the Beaver Creek watershed to ensure diverse and sustainable forest stands.

Dead and dying trees throughout the project area are increasing fuel loading throughout the watershed. Treatment is needed to reduce the risk of hazardous fuels which could threaten wildland urban interface areas.

There is also a need to restore water quality and aquatic habitats in the Beaver Creek watershed to meet State water quality standards, improve the abundance of fisheries and other aquatic organisms, and improve the longevity of road conditions by reducing maintenance costs and providing for long term public access.

Proposed Action

The proposed action would harvest timber (commercial thin, shelterwood, improvement cuts, and seed tree treatments) and treat hazardous fuels (underburning, jackpot burning, mastication, grapple piling and yarding tops associated with the timber harvest) on approximately 2,000 acres, Prescribed burning would occur on an additional 2,300 acres NOT associated with the timber harvest.

Watershed restoration activities would include decommissioning 64 miles of road currently not open to motorized use, upgrading 20 aquatic organism passage barriers, constructing 1.5 miles of permanent road and 1.2 miles of temporary road. Other activities included in the proposed action are road storage, road reconstruction and maintenance, site preparation, reforestation, and fuel break development.

Possible Alternatives

Scoping comments will be used by the Forest Service to develop a range of alternatives in response to any significant issues that are identified. A no-action alternative will be analyzed during the analysis process.

Responsible Official

The responsible official for the decision on this project is the Forest Supervisor for the Idaho Panhandle National Forests, 3815 Schreiber Way, Coeur d'Alene, ID 83815.

Nature of Decision To Be Made

The Forest Supervisor will decide whether to implement the action as proposed or as modified by an alternative, or whether to take no action at this time. If it proceeds, she will also decide what project design features and monitoring requirements will be applied to the project.

Preliminary Issues

Preliminary concerns identified by the project team include (1) effects of the proposed activities on forest vegetation; (2) effects of the proposed activities on hazardous fuel levels; (3) effects of the proposed activities on elk thermal cover, (4) effects of the proposed activities on public recreation access, (5) effects of the proposed activities on water quality, water quantity, and fish distribution; and (6) revenues and the local economy.

Permits or Licenses Required

Due to the nature of some of the restoration activities, such as culvert upgrades to facilitate aquatic organism passage or to improve hydrologic function, it is anticpated that permits associated with Section 404 of the Clean Water Act will be required.

Scoping Process

This project was previously scoped as an Environmental Assessment. This notice of intent, which guides the development of the EIS, continues the scoping process. A scoping document was mailed to potentially interested or affected members of the public on October 5, 2012. It is available on the Idaho Panhandle National Forests internet Web site (http://fs.usda.gov/goto/ipnf/projects). Please refer to the October 5, 2012 scoping document to obtain project details and project maps. It is not necessary to resubmit your comments if you responded to the October 5, 2012 scoping letter. Comments already submitted in response to the October 5, 2012 scoping letter will be used in the preparation of the EIS. While public participation in this analysis is welcome at any time, additional comments can best be used to prepare the EIS if received within 30 days of publication of this notice.

It is important that reviewers provide their comments at such times and in such a manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the respondent with standing to participate in subsequent administrative or judicial review.

Dated: January 14, 2013.
Mary Farnsworth,
Forest Supervisor, Idaho Panhandle National Forests.

[FR Doc. 2013-01126 Filed 1-18-13; 8:45 am]

BILLING CODE 3410-11-P